ENVIRONMENTAL PROTECTION AGENCY

[ER-FRL-9057-1]

Environmental Impact Statements; Notice of Availability

Responsible Agency: Office of Federal Activities, General Information 202-564-5632 or https://www.epa.gov/nepa.

Weekly receipt of Environmental Impact Statements (EIS)

Filed June 7, 2021 10 a.m. EST Through June 21, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210072, Draft, Caltrans, CA, El Camino Real Roadway Renewal Project, Comment Period Ends: 08/09/2021, Contact: Yolanda Rivas 510-506-1461.

EIS No. 20210073, Draft, USFS, WY, Invasive and Other Select Plant Management on the Bighorn NF, Comment Period Ends: 08/09/2021, Contact: Christopher D. Jones 307-674-2627.

EIS No. 20210074, Draft, USFS, CA, Sugar Pine Project Water Right Permit 15375 Extension and Radial Gates Installation, Comment Period Ends: 08/24/2021, Contact: Timothy Cardoza 530-478-6210.

EIS No. 20210075, Draft Supplement, USFS, MT, Gold Butterfly Project, Comment Period Ends: 08/09/2021, Contact: Matthew Anderson 406-363-7121.

EIS No. 20210076, Draft, FERC, NY, Enhancement by Compression Project, Comment Period Ends: 08/09/2021, Contact: Office of External Affairs 866-208-3372.

EIS No. 20210077, Final, USFS, ID, Caribou-Targhee National Forest and Curlew National Grassland Integrated Weed Management Analysis, Review Period Ends: 08/09/2021, Contact: Heidi Heyrend 208-847-0375.

EIS No. 20210078, Draft, UDOT, UT, Little Cottonwood Canyon Environmental Impact Statement Wasatch Boulevard to Alta, Comment Period Ends: 08/09/2021, Contact: Josh Van Jura 801-231-8452.

EIS No. 20210079, Final, CHSRA, CA, Bakersfield to Palmdale Project Section: Final Environmental Impact Report/Environmental Impact Statement, Review Period Ends: 07/26/2021, Contact: Scott Rothenberg 916-403-6936.

EIS No. 20210080, Draft, FERC, DE, Marcus Hook Electric Compression Project, Comment Period Ends: 08/09/2021, Contact: Office of External Affairs 866-208-3372.

EIS No. 20210081, Draft, FERC, AL, Coosa River Hydroelectric Project, Comment Period Ends: 08/16/2021, Contact: Office of External Affairs 866-208-3372.

EIS No. 20210082, Final, FAA, GA, Spaceport Camden, Review Period Ends: 07/26/2021, Contact: Stacey Zee 202-267-9305.

EIS No. 20210083, Draft, NOAA, PRO, Surveying and Mapping Projects in United States Waters for Coastal and Marine Data Acquisition, Comment Period Ends: 08/24/2021, Contact: Giannina DiMaio 240-533-0918.

Amended Notice

EIS No. 20200223, Draft, NRC, NM, Disposal of Mine Waste at the United Nuclear Corporation Mill Site in McKinley County, New Mexico, Comment Period Ends: 11/01/2021, Contact: Ashley Waldron 301-415-7317. Revision to FR Notice Published 02/12/2020; Reopening the Comment Period to end 11/01/2021.

EIS No. 20210052, Draft, NMFS, PRO, Programmatic Environmental Impact Statement for the Marine Mammal Health and Stranding Response Program, Comment Period Ends: 07/28/2021, Contact: Stephen Manley 301-427-8476. Revision to FR Notice Published 05/14/2021; Extending the Comment Period from 06/28/2021 to 07/28/2021.

Dated: June 21, 2021.
Cindy S. Barger,
Director, NEPA Compliance Division, Office of Federal Activities.

[FR Doc. 2021-13558 Filed 6-24-21; 8:45 am]

BILLING CODE 6560-50-P